DEPARTMENT OF THE INTERIOR

Geological Survey

[Docket No. USGS-2025-0138; GX25GK009970000]

Public Meetings of the Advisory Committee on Landslides

AGENCY: U.S. Geological Survey, Interior.

ACTION: Notice of public meetings.

SUMMARY: In accordance with the Federal Advisory Committee Act (FACA) of 1972, the U.S. Geological Survey (USGS) is publishing this notice to announce that a Federal Advisory Committee meeting of the Advisory Committee on Landslides (ACL) will take place and is open to members of the public.

DATES:

Meeting: The ACL will meet in-person on Wednesday, March 4, 2026, from 9:00 a.m. to 5:30 p.m. and Thursday, March 5, 2026, from 9:00 a.m. to 5:00 p.m. Eastern Standard Time.

Registration: Registration to attend or participate in the meetings is required. To register, please contact the Designated Federal Officer (DFO) (see FOR FURTHER INFORMATION CONTACT).

ADDRESSES: Meetings on March 4, 2026, and March 5, 2026, will be held in the Flat Iron Hotel, 20 Battery Park Ave., Asheville, NC 28801. Members of the public may attend the meeting in-person or can attend via web conference. Please note admittance instructions under the SUPPLEMENTARY INFORMATION section of this notice. Comments can be sent to the DFO (see FOR FURTHER INFORMATION CONTACT). The meetings are open to the public.

FOR FURTHER INFORMATION CONTACT: Dr. Jonathan Godt, Landslide Hazards Program Coordinator, Natural Hazards Mission Area, USGS, by email at jgodt@usgs.gov; or by telephone at (303) 905-9468.

Individuals in the United States who are deaf, blind, hard of hearing, or have a speech disability may dial 711 (TTY, TDD, or TeleBraille) to access telecommunications relay services. Individuals outside the United States should use the relay services offered within their country to make international calls to the point-of-contact in the United States.

SUPPLEMENTARY INFORMATION: This meeting is being held under the provisions of the FACA of 1972 (5 U.S.C. Ch. 10), the Government in the Sunshine Act of 1976 (5 U.S.C. 552b, as amended), and 41 CFR part 102-3.

The ACL is composed of no fewer than 11 members, appointed by the Secretary of the Interior, who are selected for their established qualifications in landslide hazard and risk or related fields, records of distinguished service in their professional community, knowledge of issues affecting the National Landslide Hazards Reduction Program (NLHRP), and to represent a cross-section of views and expertise, including a range of geographies and communities impacted by landslide hazards in the United States.

Purpose of the Meeting: The ACL provides advice and recommendations to the Secretary of the Interior through the Interagency Coordinating Committee on Landslide Hazards on implementation of the National Landslide Hazards Reduction Program. Additional information about the ACL is available at Advisory Committee on Landslides (ACL) | U.S. Geological Survey.

The purpose of the meetings is for the ACL to review the outcomes of subcommittee work; finalize recommendations; discuss agency activities under the National Landslide Hazards Reduction Program; and receive briefings on landslide hazard and risk science and applications to enhance public safety. Agendas may change to accommodate ACL business. Final agendas will be posted on the ACL website at Advisory Committee on Landslides (ACL) | U.S. Geological Survey.

Members of the public wishing to participate in the web conference meeting should contact the DFO (see FOR FURTHER INFORMATION CONTACT) at least three (3) business days prior to the meeting. After pre-registering, participants will be provided with instructions on how to join via web conference. Any member of the public wishing to attend the in-person meeting in person must pre-register to be admitted into the building. Please contact the DFO (see FOR FURTHER INFORMATION CONTACT) at least seven (7) business days prior to the meeting. Non-U.S. citizens may need to submit additional information. Seating for in-person attendees may be limited due to room capacity. For detailed information on building access requirements, please email Jonathan Godt.

Meeting Accessibility/Special Accommodations: Please make requests in advance for sign language interpreter services, assistive listening devices, language translation services, or other reasonable accommodations. We ask that you contact the DFO (see FOR FURTHER INFORMATION CONTACT) at least seven (7) business days prior to the meeting to give the USGS sufficient time to process your request. All reasonable accommodation requests are managed on a case-by-case basis.

Public Disclosure of Comments: There will be an opportunity for public comment during the meeting. Depending on the number of people who wish to speak and the time available, the time for individual oral comments may be limited. Written comments may also be sent to the ACL for consideration. To allow for full consideration of information by the ACL members, written comments must be provided to Jonathan Godt (see FOR FURTHER INFORMATION CONTACT) at least three (3) business days prior to the meeting. Individuals who wish to expand upon their oral statements, those who had wished to speak but could not be accommodated, and those who were unable to participate are invited to submit written statements by email to at Jonathan Godt (see FOR FURTHER INFORMATION CONTACT).

Before including your address, phone number, email address, or other personally identifiable information (PII) in your comment, be aware that your entire comment—including your PII—may be made publicly available at any time. While you may ask us in your comment to withhold your PII from public review, we cannot guarantee that we will be able to do so.

Authority: 5 U.S.C. Ch. 10.

Stephen L. Slaughter,
Associate Program Coordinator for Landslide Hazards, Natural Hazards Mission Area, U.S. Geological Survey.

[FR Doc. 2026-03327 Filed 2-19-26; 8:45 am]

BILLING CODE 4388-11-P